DEPARTMENT OF ENERGY

National Energy Technology Laboratory

Notice of Availability of a Financial Assistance Solicitation

AGENCY: National Energy Technology Laboratory, Department of Energy (DOE).

ACTION: Notice of availability of a financial assistance solicitation.

SUMMARY: Notice is hereby given of the intent to issue Financial Assistance Solicitation No. DE-PS26-03NT41779 entitled Underground Gas Storage Technology Consortium. The DOE Gas Storage Program supports the Strategic Center for Natural Gas' 2020 Vision of the U.S. public enjoying benefits (affordable supply, reliable delivery, and environmental protection) from increased use of natural gas. A solicitation for this program is included in the current NETL procurement plan for release in FY 2003. The general purpose of the Natural Gas Storage Program is to develop advanced technologies to enhance operational flexibility and deliverability of the nation's gas storage system, and provide a cost-effective, safe, and reliable supply of natural gas to meet demand in new and expanded market regions.

The purpose of this solicitation is to select an organization qualified to establish, solicit membership, and operate an Underground Gas Storage Technology Consortium that will foster broad industry interest and support for the development of cost-effective technologies to increase both the deliverability and injectability of the natural gas storage system, including conventional underground depleted oil and gas reservoirs, aquifer storage reservoirs, and salt cavern storage. Storage wells/fields often suffer a decline in productivity after several years of production and injection cycling. Current revitalization techniques usually provide only limited, temporary delivery restoration. Research supported by the consortium will focus on technologies to limit and remediate the progressive damage caused by the repeated injection and withdrawal of gas in existing and future facilities, as well as innovative reservoir development and management techniques that can maximize performance. It is anticipated that the Underground Gas Storage Technology Consortium will be gas storage industry driven and will emphasize the creation of a balanced research portfolio of practical solutions, short-term projects, and basic research to improve the performance of the Nation's gas storage infrastructure.

DATES: The solicitation will be available on the “Industry Interactive Procurement System” (IIPS) Web page located at http://e-center.doe.gov on or about April 4, 2003. Applicants can obtain access to the solicitation from the address above or through DOE/NETL's Web site at http://www.netl.doe.gov/business.

FOR FURTHER INFORMATION CONTACT: Peter E. Grandillo, Contract Specialist, MS 921-107, U.S. Department of Energy, National Energy Technology Laboratory, P.O. Box 10940, 626 Cochrans Mill Road, Pittsburgh, PA 15236-0940, E-mail Address: Peter.Grandillo@NETL.DOE.GOV, Telephone Number: (412) 386-4997.

SUPPLEMENTARY INFORMATION: DOE/NETL intends to select for award a single applicant to establish an Underground Gas Storage Technology Consortium to conduct deliverability enhancement and innovative reservoir development and management research. DOE anticipates that there will be broad participation from industry, academia, small business, and research and development organizations in the consortium.

The agreement to establish and operate the consortium is expected to last 4½ years. The first budget period will be 18 months to allow creation of the consortium structure, solicit membership and establish an executive panel of industry experts, refine a technical approach for deliverability enhancement and reservoir management research, and select and award the first round of research projects. The initial 18-month budget period will be followed by 3 one-year budget periods. Depending on the structure and membership requirements for the consortium, special provisions may have to be made for smaller companies and academia participants. The executive panel of experts established from the membership of the consortium and DOE shall rate and prioritize potential projects. This panel must be impartial and must rotate membership on a predetermined schedule. Some panel members can be from academia, however, the makeup of the panel should be such that industry is the driver.

DOE will maintain final authority in consortium project selection. No more than 10% of DOE funding provided to the consortium may be used for operating the consortium. However, any monetary requirements for membership will be maintained by the applicant for consortium operations. The consortium should select projects on an annual basis and no project should last more than two years without competing for additional funds.

A cost-sharing cooperative agreement award is anticipated that will include substantial involvement between the DOE and the Recipient, including involvement in the technical and business management aspects of the consortium, and sharing of the responsibility for the technical direction of the consortium. The DOE will participate in establishing and approving a work plan, which will identify essential and significant milestones necessary for effective implementation of the deliverability enhancement and reservoir management goals of the consortium. This work plan will be used to determine whether or not to proceed with subsequent budget periods.

This particular program is covered by section 3001 and 3002 of the Energy Policy Act (EPAct), 42 U.S.C. 13542 for financial assistance awards. The proposed calculation of the anticipated cost-sharing as a percentage of award value for projects funded through the Gas Storage Consortium is 30%. It is anticipated that $3,000,000 in federal funding will be available. However, not all of the necessary funds are currently available for this solicitation. The Government's obligation under any cooperative agreement awarded is contingent upon the availability of future appropriations.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS; no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA, on April 4, 2003.
Dale A. Siciliano,
Director, Acquisition and Assistance Division.

[FR Doc. 03-9202 Filed 4-14-03; 8:45 am]

BILLING CODE 6450-01-P